DEPARTMENT OF ENERGY

Federal Energy Regulatory Commission

[Docket No. RM19-12-000]

Revisions to the Filing Process for Commission Forms; Notice of Eforms Updates

Notice is hereby given that, on March 31, 2023, the eXtensible Business Reporting Language (XBRL) taxonomies, validation rules, and rendering files needed to file the FERC Form Nos. 1, 1-F, 2, 2-A, 3-Q electric, 3-Q natural gas, 6, 60, and 714,¹ will be updated to Version 2023-01-01.² Version 2023-01-01 will be effective starting with the first quarter 2023 forms.

¹ The Commission adopted the XBRL process for filing these forms in Order No. 859. Revisions to the Filing Process for Comm'n Forms, Order No. 859, 167 FERC ¶ 61,241 (2019).

² The Commission adopted the final XBRL taxonomies, protocols, implementation guide, and other supporting documents, and established the implementation schedule for filing the Commission Forms following a technical conference in this proceeding. Revisions to the Filing Process for Comm'n Forms, 172 FERC ¶ 61,059 (2020). The Commission also stated that technical updates, such as the updates referenced here, will not take effect until at least 60 days after issuance of a notice from the Office of the Secretary. Id. P 26.

The draft updated (Version 2023-01-01) taxonomies, validation rules, and rendering files are currently available for download in the eForms portal (https://ecollection.ferc.gov/taxonomyHistory) and are available for testing in the eForms portal. Suggestions on the draft Version 2023-01-01 taxonomies can be provided through https://XBRLview.ferc.gov/.

The 2023 FERC Form Nos. 1, 1-F, 2, 2-A, 3-Q electric, 3-Q natural gas, 6, 60, and 714 must be filed using the Version 2023-01-01 taxonomies, validation rules, and rendering files.

Dated: November 18, 2022.
Kimberly D. Bose,
Secretary.

[FR Doc. 2022-25719 Filed 11-23-22; 8:45 am]

BILLING CODE 6717-01-P